FEDERAL COMMUNICATIONS COMMISSION

47 CFR Part 73

[DA 02-2063; MM Docket No. 01-104; RM-10103, RM-10323, RM-10324]

Radio Broadcasting Services; Auburn, Northport, Tuscaloosa, Camp Hill, Gardendale, Homewood, Birmingham, Dadeville, Orrville, Goodwater, Pine Level, Jemison, and Thomaston, AL

AGENCY: Federal Communications Commission.

ACTION: Proposed rule; dismissal.

SUMMARY: At the request of Auburn Network, Inc., the Commission dismisses the petition for rule making proposing the allotment of Channel 263A at Auburn, Alabama, as the community's second local FM transmission service (RM-10103). See 16 FCC Rcd 8937 (2001). We dismiss the counterproposal filed by Radio South, Inc., proposing the reallotment of Channel 263C1 from Northport to Helena, Alabama, and the modification of Station WLXY(FM)'s license accordingly (RM-10323). To accommodate the reallotment to Helena, proponent also requested the reallotment of Channel 225C1 from Tuscaloosa to Northport, Alabama, and the modification of the license for Station WTUG(FM) accordingly as a replacement service. We also dismiss the counterproposal filed by Cox Radio, Inc., and its wholly-owned subsidiary CXR Holdings, Inc., proposing the substitution of Channel 247C2 for Channel 247A at Homewood, Alabama, the reallotment of Channel 247C2 from Homewood to Gardendale, Alabama, required channel substitutions and site changes, and the modification of Station WRLR-FM's license accordingly (RM-10324). We find that both counterproposals are technically defective because they violate section 73.208(a)(1)(i) of the Commission's Rules and our policy against acting upon contingent proposals.

FOR FURTHER INFORMATION CONTACT: Sharon P. McDonald, Media Bureau, (202) 418-2180.

SUPPLEMENTARY INFORMATION: This is a synopsis of the Commission's Report and Order, MM Docket No. 01-104, adopted August 21, 2002, and released August 30, 2002. The full text of this Commission decision is available for inspection and copying during normal business hours in the FCC Reference Information Center (Room CY-A257), 445 12th Street, SW., Washington, DC. The complete text of this decision may also be purchased from the Commission's copy contractors, Qualex International, Portals II, 445 12th Street, SW., Room CY-B402, Washington, DC 20054.

Federal Communications Commission.
John A. Karousos,
Assistant Chief, Audio Division, Media Bureau.

[FR Doc. 02-22755 Filed 9-6-02; 8:45 am]

BILLING CODE 6712-01-P